DEPARTMENT OF COMMERCE

National Oceanic and Atmospheric Administration

50 CFR Part 635

[Docket No. 220919-0193; RTID 0648-XF071]

Atlantic Highly Migratory Species; Atlantic Bluefin Tuna Fisheries; Closure of the Angling Category Fishery for 2025

AGENCY: National Marine Fisheries Service (NMFS), National Oceanic and Atmospheric Administration (NOAA), Commerce.

ACTION: Temporary rule; closure.

SUMMARY: NMFS closes the Angling category fishery for school and large school/small medium-sized (i.e., measuring 27 inches (68.5 centimeters (cm)) to less than 73 inches (185 cm) curved fork length (CFL)) Atlantic bluefin tuna (BFT) for the remainder of the 2025 fishing year. In addition to this closure, NMFS through a separate action is simultaneously closing the Angling category Gulf of Maine BFT fishery for large medium and giant (“trophy” (i.e., measuring 73 inches (185 cm) CFL or greater). As a result of these closure actions, the Angling category fishery for BFT of all size classes is closed for the remainder of the year. This closure applies to Atlantic Highly Migratory Species (HMS) Angling and HMS Charter/Headboat permitted vessels (when fishing recreationally for BFT).

DATES: Effective 11:30 p.m., local time, August 12, 2025, through December 31, 2025.

FOR FURTHER INFORMATION CONTACT: Brad McHale, brad.mchale@noaa.gov, Larry Redd, Jr., larry.redd@noaa.gov, or Ann Williamson, ann.williamson@noaa.gov, by email or by phone at 301-427-8503.

SUPPLEMENTARY INFORMATION: Atlantic BFT fisheries are managed under the 2006 Consolidated Highly Migratory Species Fishery Management Plan (HMS FMP) and its amendments, pursuant to the Magnuson-Stevens Fishery Conservation and Management Act (Magnuson-Stevens Act; 16 U.S.C. 1801 et seq.) and consistent with the Atlantic Tunas Convention Act (ATCA; 16 U.S.C. 971 et seq.). ATCA is the implementing statute for binding recommendations of the International Commission for the Conservation of Atlantic Tunas (ICCAT). The HMS FMP and its amendments are implemented by regulations at 50 CFR part 635. Section 635.27(a) divides the U.S. BFT quota, established by ICCAT and as implemented by the United States among the various domestic fishing categories, per the allocations established in the HMS FMP and its amendments. NMFS is required under the Magnuson-Stevens Act at 16 U.S.C. 1854(g)(1)(D) to provide U.S. fishing vessels with a reasonable opportunity to harvest quotas under relevant international fishery agreements such as the ICCAT Convention, which is implemented domestically pursuant to ATCA.

Under § 635.28(a)(1), NMFS files a closure notice with the Office of the Federal Register for publication when a BFT quota (or subquota) is reached or is projected to be reached. Retaining, possessing, or landing BFT under that quota category is prohibited on and after the effective date and time of a closure notice for that category, for the remainder of the fishing year, until the opening of the subsequent quota period or until such date as specified.

Every year, the BFT fishing year starts on January 1 and ends on December 31. The Angling category opens on January 1 and continues through December 31 or until the applicable quota or subquota is reached or projected to be reached, whichever comes first. As described in § 635.27(a), the current baseline U.S. BFT quota is 1,316.14 metric tons (mt) (not including the 25 mt ICCAT allocated to the United States to account for bycatch of BFT in pelagic longline fisheries in the Northeast Distant Gear Restricted Area per § 635.27(a)(3)). The Angling category baseline quota is 297.4 mt. This quota is further subdivided into subquotas by size class. Specific to this action, the subquotas are 134.1 mt for school BFT and 154.1 mt for large school/small medium BFT.

Closure of the 2025 BFT Angling Category Fishery

To date, reported and estimated school and large school/small medium BFT landings for the Angling category total approximately 244.1 mt (135.7 mt of school BFT and 108.4 mt of large school/small medium BFT, respectively). As described above, the baseline school and large school/small medium Angling category subquotas total 288.2 mt. However, landings estimates from 2024 indicate that the Angling, Harpoon, and General category quotas were exceeded. Thus, under § 635.27(a)(9) and consistent with ICCAT requirements, in order to ensure the overall U.S. quota is not exceeded, NMFS expects to take action later this year to reduce the various category quotas consistent with the estimated overharvest. While that action is not yet final, NMFS must still consider the implications of reduced quotas for various categories, including the Angling category. If both the 2024 and 2025 U.S. adjusted quotas are exceeded, under ICCAT requirements, the United States could be required to pay back 125 percent of the second year's (2025) overharvest in 2026.

Based on that consideration and the current landings data, as well as average catch rates and anticipated fishing conditions, NMFS has determined that the Angling category school and large school/small medium subquotas have been reached, and that the fisheries for these subquotas within the Angling category should be closed. Therefore, retaining, possessing, or landing school, large school, and small medium (i.e., measuring 27 inches (68.5 cm) to less than 73 inches (185 cm) CFL or greater) BFT by persons aboard HMS Angling and HMS Charter/Headboat permitted vessels (when fishing recreationally for BFT) must cease at 11:30 p.m., local time on August 12, 2025.

Related to this action, the Angling category trophy subquota of 9.2 mt, which is specifically for large medium/giant-sized BFT, is divided among four distinct areas delineated at § 635.27(a)(2)(iii) with 2.3 mt allocated for each area. NMFS has previously closed three BFT trophy areas (90 FR 11233, March 5, 2025; 90 FR 17342, April 25, 2025; 90 FR 21697, May 21, 2025). At the time of this closure action, NMFS through a separate action is simultaneously closing the Gulf of Maine BFT trophy area meaning all regional trophy fisheries are closed for the remainder of the year. Thus, as a result of these closure actions, the Angling category fishery for BFT of all size classes is closed for the remainder of the year. This action is intended to prevent overharvest of the Angling category BFT quota.

Pursuant to Executive Order 14276, “Restoring American Seafood Competitiveness,” (April 17, 2025), NMFS is making prudent efforts to identify strategies to expand fishing opportunities within the requirements of the Magnuson-Stevens Act. Should NMFS determine that reasonable fishing opportunities are available at a later date, NMFS may reopen the 2025 Angling category fishery. The Angling category will reopen automatically on January 1, 2026, for the 2026 fishing year. This action applies to HMS Angling and HMS Charter/Headboat permitted vessels (when fishing recreationally for BFT), and is taken consistent with the regulations at § 635.28(a)(1). These vessels may continue to recreationally harvest other HMS, including other tunas (bigeye, albacore, yellowfin, and skipjack), during this closure.

During a closure, fishermen aboard HMS Angling and HMS Charter/Headboat permitted vessels when fishing recreationally may continue to catch and release (or tag and release) BFT of all sizes, subject to the requirements of the catch-and-release and tag-and-release programs at § 635.26. All BFT that are released must be handled in a manner that will maximize survival, and without removing the fish from the water, consistent with requirements at § 635.21(a)(1). For additional information on safe handling, see the “Careful Catch and Release” brochure available at https://www.fisheries.noaa.gov/resource/outreach-and-education/careful-catch-and-release-brochure/.

Monitoring and Reporting

NMFS will continue to monitor the BFT fisheries closely. Per § 635.5(c)(1), HMS Angling and HMS Charter/Headboat permitted vessel owners are required to report the catch of all BFT retained or discarded dead, within 24 hours of the landing(s) or the end of each trip, by accessing https://hmspermits.noaa.gov/home, using the HMS Catch Reporting app, or calling (888) 872-8862 (Monday through Friday from 8 a.m. until 4:30 p.m. Eastern Time).

Depending on the level of fishing effort and catch rates of BFT, NMFS may determine that additional adjustments are necessary to ensure available subquotas are not exceeded or to enhance scientific data collection from, and fishing opportunities in, all geographic areas. If needed, subsequent adjustments will be published in the Federal Register per § 635.27(a)(7) and § 635.28(a)(1). In addition, updates regarding the Angling category fishery for Atlantic tunas, including any further Angling category inseason adjustments and quota monitoring updates is available at https://hmspermits.noaa.gov/home.

Classification

NMFS issues this action pursuant to section 305(d) of the Magnuson-Stevens Act (16 U.S.C. 1855(d)) and regulations at 50 CFR part 635. This action is exempt from review under Executive Order 12866.

The Assistant Administrator for NMFS (AA) finds that pursuant to 5 U.S.C. 553(b)(B), there is good cause to waive prior notice of, and an opportunity for public comment on, this action because it is impracticable and contrary to the public interest for the following reasons. Specifically, the regulations implementing the HMS FMP and its amendments provide for inseason retention limit adjustments and fishery closures to respond to the unpredictable nature of BFT availability on the fishing grounds, the migratory nature of this species, and the regional variations in the BFT fishery. Providing prior notice and opportunity to comment is impracticable and contrary to the public interest as this fishery is currently underway and, based on the most recent landings information, the 2025 quota for the Angling category has been reached. Delaying this action could result in BFT landings that would exceed the final 2025 Angling category quota, which, depending on the magnitude of a potential Angling category overharvest, may result in future potential quota reductions for the Angling category and other BFT categories. NMFS must close the Angling category BFT fishery before additional landings of these sizes of BFT occur. NMFS notes that the public had an opportunity to comment on the underlying rulemakings that established the U.S. BFT quota and the inseason adjustment and closure criteria.

For all of the above reasons, the AA also finds that pursuant to 5 U.S.C. 553(d), there is good cause to waive the 30-day delay in effectiveness.

Authority: 16 U.S.C. 971 et seq. and 1801 et seq.

Dated: August 8, 2025.
Michael P. Ruccio,
Acting Director, Office of Sustainable Fisheries, National Marine Fisheries Service.

[FR Doc. 2025-15303 Filed 8-8-25; 4:15 pm]

BILLING CODE 3510-22-P